DEPARTMENT OF COMMERCE

National Oceanic and Atmospheric Administration

[RTID 0648-XE459]

Pacific Fishery Management Council; Public Meeting

AGENCY: National Marine Fisheries Service (NMFS), National Oceanic and Atmospheric Administration (NOAA), Commerce.

ACTION: Notice of public online meeting.

SUMMARY: The Groundfish Subcommittee of the Pacific Fishery Management Council's (Pacific Council's) Scientific and Statistical Committee (SSC) will hold a meeting to update the Accepted Practices Guidelines for Groundfish Stock Assessments document. The SSC Groundfish Subcommittee meeting is open to the public and is being conducted in-person with a web broadcast that provides the opportunity for remote listening and public comment.

DATES: The SSC Groundfish Subcommittee's meeting will be held Monday, December 2, 2024, from 1 p.m., Pacific Time until business for the day is completed, and reconvene Tuesday, December 3, 2024, from 8:30 a.m., Pacific Time until business for the day has been completed.

ADDRESSES: The SSC Groundfish Subcommittee's meeting will be held in the Large Conference Room at the Pacific Fishery Management Council, 7700 NE Ambassador Place, Portland, OR 97220; telephone: (503) 820-2280. This meeting is being conducted in-person with a web broadcast that provides the opportunity for remote public comment. Specific meeting information, including directions on how to join the meeting and system requirements, will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220.

FOR FURTHER INFORMATION CONTACT: Marlene A. Bellman, Staff Officer, Pacific Council; telephone: (503) 820-2414, email: marlene.bellman@noaa.gov.

SUPPLEMENTARY INFORMATION: The purpose of the SSC Groundfish Subcommittee's meeting is to update accepted practices guidelines for conducting groundfish stock assessments. The meeting will also contain presentations on two associated topics: (a) use of remotely operated vehicle data in stock assessments and (b) results of a literature review of methods addressing large area closures within stock assessments. Recommendations of SSC Groundfish Subcommittee members will inform the Accepted Practices Guidelines for Stock Assessments in 2025 and 2026 document, which is a compilation of guidelines for groundfish stock assessment scientists. An updated version of the Accepted Practices Guidelines for Stock Assessments in 2025 and 2026 document will be available and posted shortly after this meeting for stock assessment scientists and provided to the full SSC and the Pacific Council in March 2025. Representatives of the Pacific Council's Groundfish Management Team and the Groundfish Advisory Subpanel will also participate in the meeting as advisers.

No management actions will be decided by the SSC Groundfish Subcommittee. The SSC Groundfish Subcommittee members' role will be development of recommendations for consideration by U.S. West Coast groundfish stock assessment scientists.

Although nonemergency issues not contained in the meeting agendas may be discussed, those issues may not be the subject of formal action during these meetings. Action will be restricted to those issues specifically listed in this notice and any issues arising after publication of this notice that require emergency action under Section 305(c) of the Magnuson-Stevens Fishery Conservation and Management Act, provided the public has been notified of the intent of the SSC Groundfish Subcommittee to take final action to address the emergency.

Special Accommodations

Requests for sign language interpretation or other auxiliary aids should be directed to Mr. Kris Kleinschmidt (kris.kleinschmidt@noaa.gov; (503) 820-2412) at least 10 days prior to the meeting date.

Authority: 16 U.S.C. 1801 et seq.

Dated: November 8, 2024.
Alyssa Weigers,
Acting Deputy Director, Office of Sustainable Fisheries, National Marine Fisheries Service.

[FR Doc. 2024-26499 Filed 11-13-24; 8:45 am]

BILLING CODE 3510-22-P